DEPARTMENT OF COMMERCE

International Trade Administration

[A-570-890]

Wooden Bedroom Furniture From the People's Republic of China: Preliminary Results of Antidumping Duty New Shipper Review

AGENCY: Import Administration, International Trade Administration, Department of Commerce.

DATES: Effective Date: August 10, 2011.

SUMMARY: On February 18, 2011, the Department of Commerce (the “Department”) initiated a new shipper review of the antidumping duty order on wooden bedroom furniture from the People's Republic of China (“PRC”) covering sale(s) of subject merchandise made by Dongguan Yujia Furniture Co., Ltd. (“Yujia”).¹

¹ See Wooden Bedroom Furniture From the People's Republic of China: Initiation of Antidumping Duty New Shipper Review, 76 FR 10557 (February 25, 2011) (“Initiation Notice”).

The Department preliminarily determines that Yujia has not made sales at less than normal value (“NV”). Upon completion of the final results of review, the Department will instruct U.S. Customs and Border Protection (“CBP”) to assess antidumping duties on entries of subject merchandise during the period January 1, 2010 through December 31, 2010 (the period of review or “POR”), for which the importer-specific assessment rates are above de minimis.

FOR FURTHER INFORMATION CONTACT: Patrick O'Connor or Jeff Pedersen, AD/CVD Operations, Office 4, Import Administration, International Trade Administration, U.S. Department of Commerce, 14th Street and Constitution Avenue, NW., Washington, DC 20230; telephone: (202) 482-0989 or (202) 482-2769, respectively.

SUPPLEMENTARY INFORMATION: The antidumping duty order on wooden bedroom furniture from the PRC was published on January 4, 2005.² On January 28, 2011, the Department received a timely request for a new shipper review from Yujia. On February 18, 2011, the Department initiated this new shipper review. See Initiation Notice. On February 24, 2011, the Department issued an antidumping duty questionnaire. From March 2011 through July 2011, the Department received timely questionnaire and supplemental questionnaire responses.

² See Notice of Amended Final Determination of Sales at Less Than Fair Value and Antidumping Duty Order: Wooden Bedroom Furniture From the People's Republic of China, 70 FR 329 (January 4, 2005).

On April 7, 2011, the Office of Policy issued a memorandum identifying six countries as being at a level of economic development comparable to the PRC for the instant POR. The countries identified in that memorandum are India, the Philippines, Indonesia, Thailand, Ukraine, and Peru.³ On April 12, 2011, the Department released the Policy Memorandum to interested parties and provided parties with an opportunity to submit comments regarding the selection of a surrogate country in the instant review.⁴ On May 17, 2011, the American Furniture Manufacturers Committee for Legal Trade and Vaughan-Bassett Furniture Company, Inc. (collectively, “Petitioners”) provided comments on surrogate country selection and publicly available information to value factors of production (“FOP”).⁵ On May 27, 2011, Yujia provided publicly available data to value its FOP.⁶

³ See Memorandum entitled, “Request for a List of Surrogate Countries for New Shipper Review of the Antidumping Duty Order on Wooden Bedroom Furniture (“Furniture”) from the People's Republic of China (“China”),” dated April 7, 2011 (“Policy Memorandum”).

⁴ See Letter from Howard Smith, Program Manager, Office 4, to All Interested Parties, requesting comments from interested parties regarding the selection of a surrogate country, dated April 12, 2011.

⁵ See Letter from Petitioners regarding, “Wooden Bedroom Furniture From the People's Republic of China: Submission of Publicly Available Surrogate Values to Value Factors of Production,” dated May 17, 2011 (“Petitioners' Surrogate Value Submission”).

⁶ See Submission from Yujia regarding, “Wooden Bedroom Furniture from People's Republic of China: Surrogate Values and Comments for Preliminary Results” dated May 27, 2011 (“Yujia's Surrogate Value Submission”).

Period of Review

The POR is January 1, 2010, through December 31, 2010.

Scope of the Order

The product covered by the order is wooden bedroom furniture (“WBF”). WBF is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁷ highboys,⁸ lowboys,⁹ chests of drawers,¹⁰ chests,¹¹ door chests,¹² chiffoniers,¹³ hutches,¹⁴ and armoires;¹⁵ (6) desks, computer stands, filing cabinets, book cases, or writing tables that are attached to or incorporated in the subject merchandise; and (7) other bedroom furniture consistent with the above list.

⁷ A chest-on-chest is typically a tall chest-of-drawers in two or more sections (or appearing to be in two or more sections), with one or two sections mounted (or appearing to be mounted) on a slightly larger chest; also known as a tallboy.

⁸ A highboy is typically a tall chest of drawers usually composed of a base and a top section with drawers, and supported on four legs or a small chest (often 15 inches or more in height).

⁹ A lowboy is typically a short chest of drawers, not more than four feet high, normally set on short legs.

¹⁰ A chest of drawers is typically a case containing drawers for storing clothing.

¹¹ A chest is typically a case piece taller than it is wide featuring a series of drawers and with or without one or more doors for storing clothing. The piece can either include drawers or be designed as a large box incorporating a lid.

¹² A door chest is typically a chest with hinged doors to store clothing, whether or not containing drawers. The piece may also include shelves for televisions and other entertainment electronics.

¹³ A chiffonier is typically a tall and narrow chest of drawers normally used for storing undergarments and lingerie, often with mirror(s) attached.

¹⁴ A hutch is typically an open case of furniture with shelves that typically sits on another piece of furniture and provides storage for clothes.

¹⁵ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁶ (9) jewelry armoies; ¹⁷ (10) cheval mirrors; ¹⁸ (11) certain metal parts;¹⁹ (12) mirrors that do not attach to, incorporate in, sit on, or hang over a dresser if they are not designed and marketed to be sold in conjunction with a dresser as part of a dresser-mirror set; (13) upholstered beds ²⁰ and (14) toy boxes.²¹

¹⁶ As used herein, bentwood means solid wood made pliable. Bentwood is wood that is brought to a curved shape by bending it while made pliable with moist heat or other agency and then set by cooling or drying. See CBP's Headquarters Ruling Letter 043859, dated May 17, 1976.

¹⁷ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

¹⁸ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

¹⁹ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

²⁰ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²¹ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 of the Harmonized Tariff Schedule of the United States (“HTSUS”) as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheading 9403.50.9041 or 9403.60.8081. Further, framed glass mirrors may be entered under subheading 7009.92.1000 or 7009.92.5000 of the HTSUS as “glass mirrors * * * framed.” This order covers all WBF meeting the above description, regardless of tariff classification. Although the HTSUS subheadings are provided for convenience and customs purposes, our written description of the scope of this proceeding is dispositive.

Bona Fides Sale Analysis

For this review, consistent with the Department's practice, the Department investigated the bona fide nature of the sales(s) made by Yujia during the POR. In evaluating whether or not a sale in a new shipper review is commercially reasonable, and therefore bona fide, the Department considers, inter alia, such factors as: (1) The timing of the sale; (2) the price and quantity; (3) the expenses arising from the transaction; (4) whether the goods were resold at a profit; and (5) whether the transaction was made on an arm's-length basis. See, e.g., Tianjin Tiancheng Pharmaceutical Co., Ltd. v. United States, 366 F. Supp. 2d 1246, 1250 (CIT 2005). Accordingly, the Department considers a number of factors in its bona fides analysis, “all of which may speak to the commercial realities surrounding an alleged sale of subject merchandise.” See Hebei New Donghua Amino Acid Co., Ltd. v. United States, 374 F. Supp. 2d 1333, 1342 (CIT 2005) (citing Fresh Garlic From the People's Republic of China: Final Results of Antidumping Administrative Review and Rescission of New Shipper Review, 67 FR 11283 (March 13, 2002)).

The Department preliminarily finds that the sale(s) of subject merchandise made by Yujia were made on a bona fide basis. Specifically, the Department preliminarily finds that: (1) The timing of the sale(s) by itself does not indicate that the sale(s) might not be bona fide; (2) record evidence indicates that overall the price and quantity of the sale(s) are commercially reasonable and not atypical of normal business practices of wooden bedroom furniture exporters; (3) Yujia and its customer did not incur any extraordinary expenses arising from the transaction(s); and (4) the new shipper sale(s) were made between unaffiliated parties at arm's length. The Department does not believe Yujia's unaffiliated importer's failure to substantiate its claim that it resold the goods in question at a profit ²² overcomes the totality of evidence described above demonstrating Yujia's sale(s) are bona fide. Therefore, the Department has preliminarily found that Yujia's sale(s) of subject merchandise to the United States were bona fide for purposes of this new shipper review.

²² See Memorandum to Abdelali Elouaradia, Director, AD/CVD Operations, Office 4, regarding, “Antidumping Duty New Shipper Review of Wooden Bedroom Furniture from the People's Republic of China: Bona Fide Sales Analysis for Dongguan Yujia Furniture Co., Ltd.,” dated concurrently with this notice.

Non-Market Economy Country Status

In every antidumping case conducted by the Department involving the PRC, the PRC has been treated as a non-market economy (“NME”) country.²³ In accordance with section 771(18)(C)(i) of the Tariff Act of 1930, as amended (“the Act”), any determination that a foreign country is an NME country shall remain in effect until revoked by the administering authority. None of the parties to this proceeding has contested such treatment. Accordingly, the Department calculated NV in accordance with section 773(c) of the Act, which applies to NME countries.

²³ See, e.g., Tapered Roller Bearings and Parts Thereof, Finished and Unfinished, From the People's Republic of China: Preliminary Results of 2001-2002 Administrative Review and Partial Rescission of Review, 68 FR 7500 (February 14, 2003) (unchanged in the final results, Tapered Rolling Bearings and Parts Thereof, Finished and Unfinished, from the People's Republic of China: Final Results of 2001-2002 Administrative Review and Partial Rescission of Review, 68 FR 70488 (December 18, 2003)).

Separate Rate

In proceedings involving NME countries, the Department has a rebuttable presumption that all companies within the country are subject to government control and thus should be assessed a single antidumping duty rate. It is the Department's policy to assign all exporters of subject merchandise in an NME country this single rate unless an exporter can demonstrate that it is sufficiently independent so as to be entitled to a separate rate. Exporters can demonstrate this independence through the absence of both de jure and de facto government control over export activities. The Department analyzes each entity exporting the subject merchandise under a test arising from the Final Determination of Sales at Less Than Fair Value: Sparklers From the People's Republic of China, 56 FR 20588 (May 6, 1991) (Sparklers), as further developed in Notice of Final Determination of Sales at Less Than Fair Value: Silicon Carbide From the People's Republic of China, 59 FR 22585, 22586-7 (May 2, 1994) (Silicon Carbide). However, if the Department determines that a company is wholly foreign-owned or located in a market economy, then a separate rate analysis is not necessary to determine whether it is independent from government control. See Notice of Final Determination of Sales at Less Than Fair Value: Creatine Monohydrate From the People's Republic of China, 64 FR 71104, 71104-05 (December 20, 1999) (where the respondent was wholly foreign-owned and, thus, qualified for a separate rate).

Separate Rate Recipient

Yujia is a wholly Chinese-owned company and is located in the PRC. Therefore, the Department has analyzed whether Yujia has demonstrated the absence of both de jure and de facto government control over its export activities.

A. Absence of De Jure Control

The Department considers the following de jure criteria in determining whether an individual company may be granted a separate rate: (1) An absence of restrictive stipulations associated with an individual exporter's business and export licenses; (2) legislative enactments decentralizing control of companies; and (3) other formal measures by the government decentralizing control of companies. See Sparklers, 56 FR at 20589.

The evidence provided by Yujia supports a preliminary finding of de jure absence of government control based on the following: (1) An absence of restrictive stipulations associated with Yujia's business and export licenses; ²⁴ (2) applicable legislative enactments decentralizing control over PRC companies; ²⁵ and (3) formal measures by the government decentralizing control of PRC companies.²⁶

²⁴ See Yujia's business license from “Wooden Bedroom Furniture from the People's Republic of China—Section A Questionnaire Response” dated March 17, 2011 (“Yujia's Section A response”) at Exhibit A-2.

²⁵ See Yujia's Section A response at Exhibit A-1.

²⁶ See id.

B. Absence of De Facto Control

The Department considers four factors in evaluating whether each respondent is subject to de facto government control of its export functions: (1) Whether the export prices are set by or are subject to the approval of a government agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are subject to a degree of government control which would preclude the Department from assigning separate rates.

The evidence provided by Yujia supports a preliminary finding of de facto absence of government control over its export activities based on the following: (1) Yujia set its own export prices independent of the government and without the approval of a government authority; (2) Yujia's general managers have the authority to negotiate and bind the company in an agreement; (3) Yujia maintains autonomy from the government in making decisions regarding the selection of management; and (4) Yujia retains the proceeds of its export sales and makes independent decisions regarding disposition of profits or financing of losses.²⁷

²⁷ See Yujia's Section A response from p. 3 to 11 and Exhibits A-1, A-2, and A-3.

The evidence placed on the record by Yujia demonstrates an absence of de jure and de facto government control, in accordance with the criteria identified in Sparklers and Silicon Carbide. Accordingly, the Department has preliminarily granted a separate rate to Yujia.

Surrogate Country

When the Department conducts an antidumping duty new shipper review of imports from an NME country, section 773(c)(1) of the Act directs the Department to base NV, in most circumstances, on the NME producer's FOP valued in a surrogate market-economy country or countries considered appropriate by the Department. In accordance with section 773(c)(4) of the Act, the Department will value FOP using “to the extent possible, the prices or costs of factors of production in one or more market economy countries that are—(A) At a level of economic development comparable to that of the NME country, and (B) significant producers of comparable merchandise.” Further, pursuant to 19 CFR 351.408(c)(2), the Department will normally value all FOP in a single country.

As stated previously, the Department identified India, the Philippines, Indonesia, Thailand, Ukraine, and Peru as being at a level of economic development comparable to the PRC.²⁸ Petitioners provided a report entitled The Furniture Industry in the Philippines published by the international research firm CSIL Milano in October 2007 stating that in 2006 Philippine manufacturers produced furniture valued at $813 million and the Philippines exported furniture valued at $279 million.²⁹ The Furniture Industry in the Philippines states that wood has replaced rattan as the most commonly used material in furniture production and wooden furniture accounted for 51 percent of all Philippine furniture exports. Additionally, The Furniture Industry in the Philippines states that the furniture sector was comprised of approximately 15,000 manufacturers and 800,000 workers.³⁰ No other parties commented on the selection of a surrogate country. Based on the above, we have determined that the Philippines is a significant producer of merchandise that is comparable to the merchandise under review.

²⁸ See Policy Memorandum. The Department notes that these six countries are part of a non-exhaustive list of countries that are at a level of economic development comparable to the PRC.

²⁹ See Petitioners' Surrogate Value Submission at Attachment 19, tab C, p. 6.

³⁰ See Petitioners' Surrogate Value Submission at Attachment 19, tab C, from pp. 8-10.

With respect to data considerations in selecting a surrogate country, both Petitioners and Yujia have submitted publicly-available Philippine data for valuing FOP.³¹ No other data from other potential surrogate countries exist on this record. In addition, the Department used the Philippines as the primary surrogate country in the second, third, fourth, and fifth administrative reviews of this proceeding.³² Therefore, based on its experience, the Department finds that the Philippines has provided reliable, publicly-available data for valuing the FOP. Also the Philippines is the only country listed by the Office of Policy as a potential surrogate country for the PRC for which sufficient data exist to calculate an accurate antidumping duty margin.

³¹ See Petitioners' Surrogate Value Submission and Yujia's Surrogate Value Submission.

³² See Wooden Bedroom Furniture From the People's Republic of China: Preliminary Results of Antidumping Duty Administrative Review, Preliminary Results of New Shipper Review and Partial Rescission of Administrative Review, 73 FR 8273, 8277-78 (February 13, 2008) (unchanged in Wooden Bedroom Furniture from the People's Republic of China: Final Results of Antidumping Duty Administrative Review and New Shipper Review, 73 FR 49162 (August 20, 2008)); see Wooden Bedroom Furniture From the People's Republic of China: Preliminary Results of Antidumping Duty Administrative and New Shipper Reviews and Partial Rescission of Review, 74 FR 6372, 6376 (February 9, 2009) (unchanged in Wooden Bedroom Furniture from the People's Republic of China: Final Results of Antidumping Duty Administrative Review and New Shipper Reviews, 74 FR 41374 (August 17, 2009)); see also Wooden Bedroom Furniture From the People's Republic of China: Preliminary Results of Antidumping Duty Administrative Review and Intent To Rescind Review in Part, 75 FR 5952 (February 5, 2010) (unchanged in Wooden Bedroom Furniture From the People's Republic of China: Final Results and Final Rescission in Part, 75 FR 50992 (August 18, 2010)); see Wooden Bedroom Furniture from the People's Republic of China: Preliminary Results of Antidumping Duty Administrative Review and Intent To Rescind Review in Part, 76 FR 7534 (February 10, 2011).

Thus, the Department has preliminarily selected the Philippines as the primary surrogate country because the record shows that the Philippines is at a level of economic development comparable to that of the PRC and is a significant producer of merchandise comparable to subject merchandise. Moreover, the record indicates that sufficient, contemporaneous, public Philippine data are readily-available.³³ Accordingly, we have calculated NV using Philippine prices to value Yujia's FOP.³⁴ In accordance with 19 CFR 351.301(c)(3)(ii), interested parties may submit publicly available information to value the FOP until 20 days after the date of publication of the preliminary results.³⁵

³³ See Petitioners' Surrogate Value Submission and Yujia's Surrogate Value Submission.

³⁴ See 2010 New Shipper Review of Wooden Bedroom Furniture from the People's Republic of China: Surrogate Value Memorandum for the Preliminary Results (“Surrogate Value Memorandum”).

³⁵ In accordance with 19 CFR 351.301(c)(1), for the final results of this new shipper review, interested parties may submit factual information to rebut, clarify, or correct factual information submitted by an interested party less than ten days before, on, or after, the applicable deadline for submission of such factual information. However, the Department notes that 19 CFR 351.301(c)(1) permits new information only insofar as it rebuts, clarifies, or corrects information placed on the record. The Department generally will not accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Fair Value Comparisons

In accordance with section 777(A)(d) of the Act, to determine whether Yujia sold wooden bedroom furniture to the United States at less than NV, the Department compared the export price (“EP”) of U.S. sales to NV, as described in the “U.S. Price” and “Normal Value” sections of this notice.

U.S. Price

In accordance with section 772(a) of the Act, the Department used EP as the basis for U.S. price for Yujia's sale(s) where the first sale to unaffiliated purchasers was made prior to importation and the use of constructed export price was not otherwise warranted. In accordance with section 772(c) of the Act, the Department calculated EP for Yujia by deducting the following expenses, where applicable, from the starting price (gross unit price) charged to the first unaffiliated customer in the United States: foreign inland freight from the plant to the port of exportation, and foreign brokerage and handling. Additionally, the Department based movement expenses on surrogate values (“SV”) where the service was purchased from a PRC company. For details regarding our EP calculations, see the memoranda entitled, “Wooden Bedroom Furniture from the People's Republic of China: Preliminary Results Analysis Memorandum for Dongguan Yujia Furniture Co., Ltd.” (“Yujia Analysis Memorandum”) and the Surrogate Value Memorandum, both dated concurrently with the preliminary results.

Normal Value

Section 773(c)(1) of the Act provides that the Department shall determine the NV using an FOP methodology if: (1) The merchandise is exported from an NME country; and (2) the information does not permit the calculation of NV using home-market prices, third-country prices, or constructed value under section 773(e) of the Act. When determining NV in an NME context, the Department will base NV on FOP, because the presence of government controls on various aspects of these economies renders price comparisons and the calculation of production costs invalid under our normal methodologies. Under section 773(c)(3) of the Act, FOP include, but are not limited to: (1) Hours of labor required; (2) quantities of raw materials employed; (3) amounts of energy and other utilities consumed; and (4) representative capital costs. The Department based NV on FOP reported by Yujia for materials, energy, labor and packing.

In accordance with 19 CFR 351.408(c)(1), the Department will normally use publicly-available surrogates to value FOP, but when a producer sources an input from a market economy and pays for it in market economy currency, the Department will normally value the factor using the actual price paid for the input. However, when the Department has reason to believe or suspect that such prices may be distorted by subsidies, the Department will disregard the market economy purchase prices and use surrogate values to determine the NV.³⁶ Where the facts developed in either U.S. or third-country countervailing duty findings include the existence of subsidies that appear to be used generally (in particular, broadly available, non-industry specific export subsidies), the Department will have reason to believe or suspect that prices of the inputs from the country granting the subsidies may be subsidized.³⁷

³⁶ See Tapered Roller Bearings and Parts Thereof, Finished and Unfinished, From the People's Republic of China; Final Results of 1998-1999 Administrative Review, Partial Rescission of Review, and Determination Not To Revoke Order in Part, 66 FR 1953 (January 10, 2001) (“TRBs 1998-1999”), and accompanying Issues and Decision Memorandum at Comment 1.

³⁷ See TRBs 1998-1999 at Comment 1; see also China Nat'l. Machinery Imp. & Exp. Corp. v. United States, 293 F. Supp. 2d 1334, 1338-39 (Ct. Int'l Trade 2003).

In avoiding the use of prices that may be subsidized, the Department does not conduct a formal investigation to ensure that such prices are not subsidized, but rather relies on information that is generally available at the time of its determination.³⁸

³⁸ See H.R. Rep. 100-576, at 590 (1988), reprinted in 1988 U.S.C.C.A.N. 1547, 1623-24.

Factor Valuation

In accordance with section 773(c) of the Act, we calculated NV based on FOP reported by Yujia for the POR. To calculate NV, the Department multiplied the reported per-unit factor quantities by publicly-available Philippine SV (except as noted below). In selecting the SV, the Department considered the quality, specificity, and contemporaneity of the data. As appropriate, the Department adjusted input prices by including freight costs to make them delivered prices. Specifically, the Department added to Philippine import SV a surrogate freight cost using the shorter of the reported distance from the domestic supplier to the respondent's factory or the distance from the nearest seaport to the respondent's factory where appropriate (i.e., where the sales terms for the market economy inputs indicate they were not delivered to the factory). This adjustment is in accordance with the decision of the Court of Appeals for the Federal Circuit (“CAFC”) in Sigma Corp. v. United States, 117 F.3d 1401, 1407-08 (Fed. Cir.1997). Due to the extensive number of SV in this new shipper review, we present only a brief discussion of the main FOP in this notice. For a detailed description of all SV used to value Yujia's reported FOP, see Surrogate Value Memorandum.

Yujia reported that one of its raw material inputs was produced in a market economy country and paid for in market economy currencies. Pursuant to 19 CFR 351.408(c)(1), when a respondent sources inputs from a market economy supplier in meaningful quantities (i.e., not insignificant quantities) and pays for the inputs in a market economy currency, we use the actual price paid by the respondent for the inputs to value the inputs, except when prices may have been distorted by findings of dumping by the PRC and/or subsidies.³⁹ Yujia reported information demonstrating that the quantity of certain raw materials it purchased from market economy suppliers is significant. Thus, in accordance with our statement of policy as outlined in Antidumping Methodologies: Market Economy Inputs, we have used the actual purchases of these inputs to value the inputs.⁴⁰

³⁹ See Antidumping Duties; Countervailing Duties; Final Rule, 62 FR 27296, 27366 (May 19, 1997).

⁴⁰ See Antidumping Methodologies: Market Economy Inputs, Expected Non-Market Economy Wages, Duty Drawback; and Request for Comments, 71 FR 61716, 61717 (October 19, 2006) (“Antidumping Methodologies: Market Economy Inputs”); see also Yujia Analysis Memorandum.

Where market economy purchases of inputs were not made in significant quantities during the POR, we used, in total or in part, import values for the POR from the Philippines National Statistics Office (“Philippines NSO”) reported in U.S. dollars on a cost, insurance, and freight (“CIF”) basis to value the inputs. Specifically, we used Philippines NSO data to value the following inputs: wood (e.g., medium-density fiberboard, wood veneer, etc.), adhesives and finishing materials (e.g., glue, paint, pigment, thinner, etc.), hardware (e.g., steel screws, bolts, nails, metal fittings, etc.), other materials (e.g., sand paper, sand cloth, sand sponge, wrench, etc.), and packing materials (e.g., carton box, poly bag, adhesive tape, polyfoam, extended polythene, etc.). The Philippines NSO provides data on a net weight basis, which is the same basis used by Yujia in reporting FOP.⁴¹ For a detailed description of all SV used to value the reported FOP, see Surrogate Value Memorandum.

⁴¹ Yujia submitted Harmonized Tariff Schedule (“HTS”) number 44219099 for the Department's consideration in the valuation of wood sticks used in the production of wooden furniture. However, this HTS classification is valued on a per-piece basis. Because Yujia reported its consumption of wood sticks by weight, we based the surrogate value for wood sticks on all 8 digit categories within the 4421 heading that were on a per-kilogram basis.

Previously, the Department used regression-based wages that captured the worldwide relationship between per capita Gross National Income (“GNI”) and hourly manufacturing wages, pursuant to 19 CFR 351.408(c)(3), to value the respondent's cost of labor. However, on May 14, 2010, the CAFC in Dorbest Ltd. v. United States, 604 F.3d 1363, 1372 (Fed. Cir. 2010) (“Dorbest”), invalidated 19 CFR 351.408(c)(3). As a consequence of the CAFC's ruling in Dorbest, the Department no longer relies on the regression-based wage rate methodology described in its regulations. On February 18, 2011, the Department published in the Federal Register a request for public comment on the interim methodology, and the data sources. See Antidumping Methodologies in Proceedings Involving Non-Market Economies: Valuing the Factor of Production: Labor, Request for Comment, 76 FR 9544 (Feb. 18, 2011).

On June 21, 2011, the Department revised its methodology for valuing the labor input in NME antidumping proceedings. See Antidumping Methodologies in Proceedings Involving Non-Market Economies: Valuing the Factor of Production: Labor, 76 FR 36092 (June 21, 2011) (“Labor Methodologies”). In Labor Methodologies, the Department determined that the best methodology to value the labor input is to use industry-specific labor rates from the primary surrogate country. Additionally, the Department determined that the best data source for industry-specific labor rates is Chapter 6A: Labor Cost in Manufacturing, from the International Labor Organization (ILO) Yearbook of Labor Statistics (“Yearbook”).

In these preliminary results, the Department calculated the labor input using the wage method described in Labor Methodologies. To value Yujia's labor input, the Department relied on data reported by the Philippines to the ILO in Chapter 6A of the Yearbook. The Department further finds the two-digit description under International Standard Industrial Classification (“ISIC”) Revision 3.1 (“Manufacture of Furniture; Manufacturing n.e.c.”) to be the best available information on the record because it is specific to the industry being examined, and is therefore derived from industries that produce comparable merchandise. Accordingly, relying on Chapter 6A of the Yearbook, the Department calculated the labor input using labor data reported by the Philippines to the ILO under Sub-Classification 36 of the ISIC-Revision 3.1 standard, in accordance with Section 773(c)(4) of the Act. For these preliminary results, the calculated industry-specific wage rate is 78 Philippine pesos. A more detailed description of the wage rate calculation methodology is provided in the Surrogate Value Memorandum.

As stated above, the Department used the Philippines ILO data reported under Chapter 6A of the Yearbook, which reflects all costs related to labor, including wages, benefits, housing, training, etc. Since certain financial statements used to calculate the surrogate financial ratios include itemized details of indirect labor costs such as benefits, bonuses, pensions, and other items for staff welfare, the Department made adjustments to the surrogate financial ratios by moving costs from manufacturing and overhead to labor. See Labor Methodologies.

We valued electricity using Philippine data from The Cost of Doing Business in Camarines Sur, which is available at the Philippine government's Web site for the province: http://www.camarinessur.gov.ph. These data pertain only to the cost of electricity for industrial consumption.⁴²

⁴² See Surrogate Value Memorandum.

We valued inland freight and brokerage and handling using Philippine data from the World Bank's 2011 Doing Business in the Philippines report. The 2011 World Bank report includes data contemporaneous with the POR.⁴³

⁴³ See Ibid.

We valued factory overhead, selling, and general, and administrative (“SG&A”) expenses, and profit, using the audited financial statements for the fiscal year ending December 31, 2009, from the following companies: APY Cane International; Arkane International, Corp.; Berbenwood Industries Inc.; Betis Crafts, Inc.; Clear Export Industries, Inc.; Heritage Muebles Mirabile Export Inc.; Insular Rattan & Native Products Corporation; Interior Crafts Of The Islands, Inc.; Las Palmas Furniture, Inc.; Maple and Pine International, Inc.; Stonesets International Inc.; and Wicker & Vine, Inc., which are Philippine producers of merchandise identical to subject merchandise that received no countervailable subsidies and that earned a before-tax profit in 2009. From this information, we were able to determine factory overhead costs as a percentage of the total raw materials, labor and energy (“ML&E”) costs; SG&A expenses as a percentage of ML&E plus overhead costs (i.e., cost of manufacture); and the profit rate as a percentage of the cost of manufacture plus SG&A expenses. For further discussion, see Surrogate Value Memorandum.

Currency Conversion

We made currency conversions into U.S. dollars, in accordance with section 773A(a) of the Act, based on the exchange rates in effect on the dates of the U.S. sales as certified by the Federal Reserve Bank.

Preliminary Results of Review

The Department preliminarily determines that the following weighted-average dumping margin exists for the period January 1, 2010, through December 31, 2010:

Exporter/Producer | Weighted- average margin (percent)
Dongguan Yujia Furniture Co., Ltd. | 0.00

Disclosure

The Department will disclose calculations performed for these preliminary results to the parties within five days of the date of publication of this notice in accordance with 19 CFR 351.224(b).

Public Comment

Interested parties may submit written comments no later than 30 days after the date of publication of these preliminary results of review. See 19 CFR 351.309(c). Rebuttals to written comments must be limited to the issues raised in the written comments and may be filed no later than five days after the deadline for filing case briefs. See 19 CFR 351.309(d). Further, parties submitting written comments and rebuttal comments are requested to provide the Department with an additional copy of those comments on a compact disk. Any interested party may request a hearing within 30 days of publication of these preliminary results. See 19 CFR 351.310(c). If requested, a hearing normally will be held two days after the scheduled date for submission of rebuttal comments. See 19 CFR 351.310(d). Parties should confirm by telephone the date, time, and location of the hearing two days before the scheduled date.

The Department will issue the final results of this new shipper review, which will include the results of its analysis of any issues raised in written comments, within 90 days of the date on which these preliminary results are issued, in accordance with 19 CFR 351.214(i)(1), unless the time limit is extended. See 19 CFR 351.214(i)(2).

Assessment Rates

Upon issuance of the final results, the Department will determine, and CBP shall assess, antidumping duties on all appropriate entries covered by this review. The Department intends to issue assessment instructions to CBP 15 days after the publication date of the final results of this review. In accordance with 19 CFR 351.212(b)(1), we are calculating importer- (or customer-) specific assessment rates for the merchandise subject to this review. Where the respondent has reported reliable entered values, we calculate importer- (or customer-) specific ad valorem rates by aggregating the dumping margins calculated for all U.S. sales to each importer (or customer) and dividing this amount by the total entered value of the sales to each importer (or customer). Where an importer- (or customer-) specific ad valorem rate is greater than de minimis, we will apply the assessment rate to the entered value of the importers'/customers' entries during the POR, pursuant to 19 CFR 351.212(b)(1).

Cash Deposit Requirements

The following cash deposit requirements will be effective upon publication of the final results of this new shipper review for all shipments of the subject merchandise entered, or withdrawn from warehouse, for consumption on or after the publication date, as provided for by section 751(a)(2)(C) of the Act: (1) For the exporter listed above, the cash deposit rate will be the rate established in the final results of this review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate of 216.01 percent; and (4) for all non-PRC exporters of subject merchandise which have not received their own rate, the cash deposit rate will be the rate applicable to the PRC exporter(s) that supplied that non-PRC exporter. These deposit requirements, when imposed, shall remain in effect until further notice.

Notification to Interested Parties

This notice serves as a reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

The Department is issuing and publishing this determination in accordance with sections 751(a)(2)(B) and 777(i) of the Act, and 19 CFR 351.214(h) and 351.221(b)(4).

Dated: August 3, 2011.
Ronald K. Lorentzen,
Deputy Assistant Secretary for Import Administration.

[FR Doc. 2011-20327 Filed 8-9-11; 8:45 am]

BILLING CODE 3510-DS-P